DEPARTMENT OF HEALTH AND HUMAN SERVICES

National Institutes of Health

National Library of Medicine; Notice of Meeting

Pursuant to section 10(d) of the Federal Advisory Committee Act, as amended (5 U.S.C. Appendix 2), notice is hereby given of the following meeting.

The meeting will be open to the public as indicated below, with attendance limited to space available. Individuals who plan to attend and need special assistance, such as sign language interpretation or other reasonable accommodations, should notify the Contact Person listed below in advance of the meeting.

The meeting will be closed to the public in accordance with the provisions set forth in sections 552b(c)(4) and 552b(c)(6), Title 5 U.S.C., as amended. The grant applications and the discussions could disclose confidential trade secrets or commercial property such as patentable material, and personal information concerning individuals associated with the grants applications, the disclosure of which would constitute a clearly unwarranted invasion of personal privacy.

Name of Committee: Biomedical Library Review Committee

Date: June 14-15, 2000

Closed: June 14, 2000, 8:30 am to 11:30 am

Agenda: To review and evaluate grant applications

Place: National Library of Medicine, Board Room Bldg 38, 2E-09, 8600 Rockville Pike, Bethesda, MD 20894

Open: June 14, 2000, 11:30 am to 12 pm

Agenda: Administrative Reports and Program Developments

Place: National Library of Medicine, Board Room Bldg 38, 2E-09, 8600 Rockville Pike, Bethesda, MD 20894

Closed: June 14, 2000, 12 pm to 1:30 pm.

Agenda: To review and evaluate fellowship grant applications.

Place: National Library of Medicine, Board Room Bldg 38, 2E-09, 8600 Rockville Pike, Bethesda, MD 20894.

Closed: June 14, 2000, 1:30 pm to 5:30 pm.

Agenda: To review and evaluate grant applications.

Place: National Library of Medicine, Board Room Bldg 38, 2E-09, 8600 Rockville Pike, Bethesda, MD 20894.

Open: June 15, 2000, 8:30 am to 9:00 am

Agenda: Administrative Reports and Program Development

Place: National Library of Medicine, Board Room Bldg 38, 2E-09, 8600 Rockville Pike, Bethesda, MD 20894

Closed: June 15, 2000, 9 am to 12 pm

Agenda: To review and evaluate grant applications

Place: National Library of Medicine, Board Room Bldg 38, 2E-09, 8600 Rockville Pike, Bethesda, MD 20894

Closed: June 15, 2000, 12 pm to 1:30 pm

Agenda: To review and evaluate resource grant applications

Place: National Library of Medicine, Board Room Bldg 38, 2E-09, 8600 Rockville Pike, Bethesda, MD 20894

Contact Person: Sharee Pepper, Phd, Scientific Review Administrator, Health Scientist Administrator, Office of Extramural Programs, National Library of Medicine, 6705 Rockledge Drive Suite 301, Bethesda, MD 20892, (301) 594-4933

(Catalogue of Federal Domestic Assistance Program Nos. 93.879, Medical Library Assistance, National Institutes of Health, HHS)
Dated: May 10, 2000.
LaVerne Y. Stringfield,
Director, Office of Federal Advisory Committee Policy.

[FR Doc. 00-12540 Filed 5-17-00; 8:45 am]

BILLING CODE 4140-01-M